DEPARTMENT OF HEALTH AND HUMAN SERVICES

National Institutes of Health

Submission for OMB Review; Comment Request; Collection of Demographic and Smoking/Tobacco Use Information from NCI Cancer Information Service Clients

SUMMARY: Under the provisions of section 3507(a)(1)(D) of the Paperwork Reduction Act of 1995, the National Cancer Institute, the National Institutes of Health has submitted to the Office of Management and Budget (OMB) a request to review and approve the information collection below. This proposed information collection was previously published in the Federal Register on Friday, January 20, 2006, page 3313 and allowed 60 days for public comment. No public comments were received. The purpose of this notice is to allow an additional 30 days for comment. The National Institutes of Health may not conduct or sponsor, and the respondent is not required to respond to, an information collection that has been extended, revised, or implemented on or after October 1, 1995 unless it displays a currently valid OMB control number.

Proposed Collection: Title: Collection of Demographic and Smoking/Tobacco Use Information from NCI Cancer Information Service Clients.

Type of Information Collection Request: Revision.

Need and Use of Information Collection: The NCI's Cancer Information Service (CIS) provides accurate and up-to-date cancer information to the public through a toll-free telephone number (1-800-4-CANCER) and LiveHelp, an online instant messaging service. In addition, CIS provides smoking cessation assistance through a telephone quitline (accessed through 1-800-44U-QUIT or 1-800-QUITNOW). Eligible smoking cessation clients have the opportunity to participate in a callback service, which provides up to four follow-up counseling calls. Characterizing CIS clients is essential to customer service, program planning, and promotion. Currently CIS conducts a brief survey of a sample of telephone and LiveHelp clients at the end of usual service (OMB No. 0925-0208); the survey includes three customer service and five demographic questions (age, sex, race, ethnicity, education). This request is to supplement the current data collection activity by adding: (1) Four demographic questions related to income, health insurance coverage, and regular source of health care; (2) 20 smoking intake questions for individuals seeking smoking cessation assistance; and (3) one smoking follow-up question for smoking cessation clients participating in the callback service. The demographic questions will allow CIS to better measure the program's reach to underserved populations and program impacts on these populations. The smoking intake questions are necessary as part of the needs assessment process for smoking cessation clients. Information about clients smoking history, previous quit attempts, and motivations to quit smoking will enable Information Specialists to provide effective individualized counseling. The smoking follow-up question will allow CIS to track clients smoking behavior and measure quit rates over the period of the callback service. Consistent with the current data collection, the proposed questions will be asked of clients who are cancer patients, family members and friends of patients, and the general public. The proposed sampling is consistent with the current data collection, with 25% of telephone and quitline clients sampled for the proposed demographic questions. If the call is the result of a special promotion, 50% of callers will be surveyed. Overall, it is estimated that 36% of telephone and quitline clients will be sampled for the demographic questions. The demographic questions will be asked of 50% of LiveHelp clients; the higher sampling rate is necessary due to the lower response rate among online clients. The proposed smoking intake questions will be asked of 100% of smoking cessation clients and the smoking follow-up question will be asked of 100% of smoking cessation clients participating in the callback service. Table 1 presents the estimated numbers of respondents, numbers of responses per respondent, average burden hours per response, and annual burden hours for each subgroup of respondents. The combined total to be surveyed each year is approximately 49,400 CIS clients for a total of 1,578 annual burden hours.

Frequency of Response: Single time for demographic and smoking intake questions; up to four times for the smoking follow-up question.

Affected Public: Individuals or households.

Type of Respondents: Cancer patients, family members and friends of cancer patients, and general public who contact CIS via telephone or online. The annual reporting burden is presented in Table 1.

Table 1.—Respondent and Burden Hour Estimates
Type of respondents | Estimated number of respondents | Estimated number of responses per respondent | Average burden hours per response | Estimated total annual burden hours requested
Telephone Clients: ¹
Demographic questions | 40,700 | 1 | .0302 | 1,229
Quitline Smoking Cessation Clients1, 2
Reactive Clients:
Demographic & smoking intake questions | 1,900 | 1 | .0611 | 116
Smoking intake questions only | 3,400 | 1 | .0309 | 105
Proactive Callback Clients ³
Demographic & smoking intake questions plus follow-up question | 500 | 1 ⁵4 | .0611 .0017 | 31 3
Smoking intake questions plus follow-up question | 900 | 1 ⁵ 4 | .0309 .0017 | 28 6
Subtotal Quitline Clients | 6,700 |  |  |
LiveHelp Clients: ⁴
Demographic questions | 2,000 | 1 | .0302 | 60
Total | 49,400 |  |  | 1,578
¹ Approximately 36% of telephone and quitline clients will be sampled for the demographic questions.
² 100% of smoking cessation clients will be asked the smoking intake questions.
³ 100% of smoking cessation clients participating in the callback service will be asked the smoking follow-up question (at up to 4 callbacks).
⁴ Approximately 50% of LiveHelp clients will be sampled for the demographic questions.
⁵ (Follow-up question only).

The annualized cost to respondents is estimated at approximately: $28,546. There are no Capital Costs, Operating Costs, or Maintenance Costs to report.

Request for Comments: Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

Direct Comments to OMB: Written comments and/or suggestion regarding the items contained in this notice, especially regarding the estimated public burden and associated response time, should be directed to the Office of Management and Budget, Office of Regulatory Affairs, New Executive Office Building, Room 10235, Washington, DC 20503, Attention: Desk Officer for NIH. To request more information on the proposed project or to obtain a copy of the data collection plans and instruments, contact Linda Squiers, Ph.D., Project Officer for Research, Cancer Information Service Branch, National Cancer Institute, NIH, 6116 Executive Blvd., MSC 8322, Rockville, MD 20892-8322, or call non-toll-free number 301-594-9075 or e-mail your request, including your address, to: squiersl@mail.nih.gov.

Comments Due Date: Comments regarding this information collection are best assured of having their full effect if received within 30-days of the date of this publication.

Dated: July 10, 2006.
Rachelle Ragland-Greene,
NCI Project Clearance Liaison, National Institutes of Health.

[FR Doc. E6-11381 Filed 7-18-06; 8:45 am]

BILLING CODE 4101-01-P